ENVIRONMENTAL PROTECTION AGENCY

40 CFR Part 52

[EPA-R06-OAR-2007-0989; FRL-9960-67-Region 6]

Approval and Promulgation of Implementation Plans; Oklahoma; Revisions to Minor New Source Review Permitting Program

AGENCY: Environmental Protection Agency (EPA).

ACTION: Final rule.

SUMMARY: Pursuant to the Federal Clean Air Act (CAA or the Act), the Environmental Protection Agency (EPA) is approving severable portions of revisions to the Oklahoma New Source Review (NSR) State Implementation Plan (SIP) submitted by the State of Oklahoma on February 14, 2002 (the February 14, 2002, SIP submittal). This action addresses revisions to the Oklahoma Administrative Code (OAC), Title 252, Chapters 4 and 100, concerning the State's Minor New Source Review air permitting program.

DATES: This rule is effective on June 14, 2017.

ADDRESSES: The EPA has established a docket for this action under Docket ID No. EPA-R06-OAR-2007-0989. All documents in the docket are listed on the http://www.regulations.gov Web site. Although listed in the index, some information is not publicly available, e.g., Confidential Business Information or other information whose disclosure is restricted by statute. Certain other material, such as copyrighted material, is not placed on the Internet and will be publicly available only in hard copy form. Publicly available docket materials are available either electronically through http://www.regulations.gov or in hard copy at the EPA Region 6, 1445 Ross Avenue, Suite 700, Dallas, Texas 75202-2733.

FOR FURTHER INFORMATION CONTACT: Rick Barrett, 214-665-7227, barrett.richard@epa.gov.

SUPPLEMENTARY INFORMATION: Throughout this document “we,” “us,” and “our” means the EPA.

I. Background

The background for this action is discussed in detail in our November 29, 2016, proposal (81 FR 85907). In that document, we proposed to find that the severable portions of the Minor NSR program requirements in OAC 252:4-1 (General Provisions), OAC 252:4-7 (Environmental Permit Process), Appendix C (Permitting Process Summary), OAC 252:100-5 (Registration, Emission Inventory and Annual Operating Fees), OAC 252:100-7 (Permits for Minor Facilities) and Appendix H (De Minimis Facilities) are approvable as meeting CAA requirements for a Minor NSR program. With the exception of OAC 252:100-7 and Appendix H, the above provisions were previously approved as to Oklahoma's Major NSR program. See 75 FR 72695, November 26, 2010. In this action, the severable Minor NSR provisions provide the necessary procedures and applicable requirements for approvable Minor NSR programs. We did not propose approval of those portions of OAC 252:100-8, Parts 1 and 5 as they apply to Oklahoma's Minor NSR program; the EPA will address the Minor NSR program aspects of them in a separate action. This action is being taken under section 110 of the Act.

We received one comment on the proposal. The comment and our response to that comment follows below.

II. Response to Comment

Comment: One commenter stated that the EPA cannot approve the changes to the Oklahoma minor source NSR program unless the program ensures that no source which causes or contributes to a violation of any NAAQS can obtain a permit.

Response: We thank the commenter for the comment. We agree that EPA cannot approve a revision to a Minor NSR program SIP that would preclude the permitting authority from preventing the construction or modification of a source whose emissions interfere with the attainment or maintenance of the NAAQS. See 40 CFR 51.160(b). The revisions to Oklahoma's Minor NSR program SIP approved through this action include permitting provisions that require a source to comply with all applicable air pollution rules and prohibit the exceedance of the NAAQS. See OAC 252:100-7-15. EPA's review of the proposed revisions to the Oklahoma Minor NSR program, in accordance with section 110(l) of the CAA, forms the basis for demonstrating noninterference with applicable requirements concerning attainment of the NAAQS and other applicable requirements of the CAA. See the section 110(l) analysis in our proposed approval for this action (81 FR 85907, 85911, November 29, 2016), and in the accompanying Technical Support Document on page 26.

III. Final Action

We are approving the severable portions of revisions to the Oklahoma SIP as proposed in our November 29, 2016 proposal (81 FR 85907). This includes portions of the February 14, 2002, SIP submittal from the State of Oklahoma. Many of these revisions are administrative in nature and modify redundant or incorrect text within the SIP. The revisions also include renumbered or codified portions of the SIP and new sections that incorporate Federal rules. We approve the revisions to the SIP that meet CAA requirements. Specifically, we are approving the severable portions of revisions to the Oklahoma Minor NSR SIP identified in Table 1 below. As discussed above, many of these provisions were previously approved as part of Oklahoma's Major NSR program. See 75 FR 72695 (November 26, 2010).

Table 1—Revisions to the Oklahoma SIP for Approval
Section | Title | Effective date | Submittal date
Chapter 4 (OAC 252:4). Rules of Practice and Procedure
Subchapter 1. General Provisions
OAC 252:4-1-1 | Purpose and Authority | June 11, 2001 | February 14, 2002.
OAC 252:4-1-2 | Definitions | June 11, 2001 | February 14, 2002.
OAC 252:4-1-3 | Organization | June 11, 2001 | February 14, 2002.
OAC 252:4-1-4 | Office hours and locations; communications | June 11, 2001 | February 14, 2002.
OAC 252:4-1-5, except (a) 2nd sentence, which EPA will address in a separate action | General Provisions, Availability of a record | June 11, 2001 | February 14, 2002.
OAC 252:4-1-6 | Administrative fees | June 11, 2001 | February 14, 2002.
OAC 252:4-1-7 | Fee credits for regulatory fees | June 11, 2001 | February 14, 2002.
OAC 252:4-1-8 | Board and Councils | June 11, 2001 | February 14, 2002.
OAC 252:4-1-9 | Severability | June 11, 2001 | February 14, 2002.
Subchapter 7. Environmental Permit Process
OAC 252:4-7-1 | Authority | June 11, 2001 | February 14, 2002.
OAC 252: 4-7-2, except 2nd sentence, which EPA will address in a separate action | Preamble | June 11, 2001 | February 14, 2002.
OAC 252: 4-7-3 | Compliance | June 11, 2001 | February 14, 2002.
OAC 252:4-7-4, except (a) 1st sentence, which EPA will address in a separate action | Filing an application | June 11, 2001 | February 14, 2002.
OAC 252:4-7-5 | Fees | June 11, 2001 | February 14, 2002.
OAC 252: 4-7-6 | Receipt of Applications | June 11, 2001 | February 14, 2002.
OAC 252:4-7-7 | Administrative completeness review | June 11, 2001 | February 14, 2002.
OAC 252:4-7-8 | Technical review | June 11, 2001 | February 14, 2002.
OAC 252:4-7-9 | When review times stops | June 11, 2001 | February 14, 2002.
OAC 252:4-7-10 | Supplemental time | June 11, 2001 | February 14, 2002.
OAC 252:4-7-11 | Extensions | June 11, 2001 | February 14, 2002.
OAC 252:4-7-12 | Failure to meet deadline | June 11, 2001 | February 14, 2002.
OAC 252:4-7-13, except (a), which EPA will address in a separate action | Notices | June 11, 2001 | February 14, 2002.
OAC 252:4-7-14 | Withdrawing applications | June 11, 2001 | February 14, 2002.
OAC 252:4-7-15 | Permit issuance or denial | June 11, 2001 | February 14, 2002.
OAC 252:4-7-17 | Permit decision-making authority | June 11, 2001 | February 14, 2002.
OAC 252:4-7-18 | Pre-issuance permit review and correction | June 11, 2001 | February 14, 2002.
OAC 252:4-7-19 | Consolidation of permitting process | June 11, 2001 | February 14, 2002.
Part 3. Air Quality Division Tiers and Timelines
OAC 252:4-7-31 | Air quality time lines | June 11, 2001 | February 14, 2002.
OAC 252: 4-7-32, except (a) and (c)(1), which EPA will address in a separate action | Air quality applications—Tier I | June 11, 2001 | February 14, 2002.
Appendices for OAC 252: Chapter 4
OAC 252: 4. Appendix C, except the Tier I column, which EPA will address in a separate action | Permitting process summary | June 11, 2001 | February 14, 2002.
Chapter 100 (OAC 252:100) Air Pollution Control
Subchapter 5. Registration, Emission Inventory and Annual Operating Fees
OAC 252: 100-5-1 | Purpose | June 11, 2001 | February 14, 2002.
OAC 252: 100-5-1.1 | Definitions | June 15, 2007 | July 16, 2010.
OAC 252: 100-5-2 | Registration of potential sources of air contaminants | June 11, 2001 | February 14, 2002.
OAC 252: 100-5-2.1 | Emission inventory | June 15, 2007 | July 16, 2010.
OAC 252: 100-5-2.2 | Annual operating fees | June 11, 2001 | February 14, 2002.
OAC 252: 100-5-3 | Confidentiality of proprietary information | June 11, 2001 | February 14, 2002.
Subchapter 7. Permits for Minor Facilities
Part 1. General Provisions
OAC 252: 100-7-1 | Purpose | June 25, 1998 | February 14, 2002.
OAC 252: 100-7-1.1 | Definitions | June 11, 1999 | February 14, 2002.
OAC 252: 100-7-2, except (a) 2nd sentence, which EPA will address in a separate action | Requirement for permits for minor facilities | June 1, 2001 | February 14, 2002.
Part 3. Construction Permits
OAC 252: 100-7-15 | Construction permit | June 11, 1999 | February 14, 200.2
Part 4. Operating Permits
OAC 252: 100-7-17 | Relocation permits for portable sources | June 25, 1998 | February 14, 2002.
OAC 252: 100-7-18 | Operating permit | June 11, 1999 | February 14, 2002.
Part 9. Permits by Rule
OAC 252: 100-7-60 | Permit by rule | June 11, 1999 | February 14, 2002.
OAC 252: 100-7-60.1 | Cotton gins | June 11, 1999 | February 14, 2002.
OAC 252: 100-7-60.2 | Grain elevators | June 11, 1999 | February 14, 2002.
Subchapter 8. Permits for Part 70 Sources
EPA will address applicability to Minor NSR permitting under OAC 252:100-8 in a separate action.
OAC 252: 100. Appendix H | DE MINIMIS FACILITIES | June 25, 1998 | February 14, 2002.

This action is being taken under section 110 of the Act.

IV. Incorporation by Reference

In this rule, we are finalizing regulatory text that includes incorporation by reference. In accordance with the requirements of 1 CFR 51.5, we are finalizing the incorporation by reference of the revisions to the Oklahoma regulations as described in the Final Action section above. We have made, and will continue to make, these documents generally available electronically through www.regulations.gov and/or in hard copy at the EPA Region 6 office.

V. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 14, 2017. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Nitrogen dioxide, Ozone, Particulate matter, Reporting and recordkeeping requirements, Sulfur oxides, Volatile organic compounds.

Dated: April 27, 2017.
Samuel Coleman,
Acting Regional Administrator, Region 6.

40 CFR part 52 is amended as follows:

PART 52—APPROVAL AND PROMULGATION OF IMPLEMENTATION PLANS

1. The authority citation for part 52 continues to read as follows:

Authority: 42 U.S.C. 7401 et seq.

Subpart LL—Oklahoma

2. In § 52.1920(c), the table titled “EPA Approved Oklahoma Regulations” is amended:

a. Under “Regulation 1.4 Air Resources Management Permit Required,” by removing the entries for 1.4.1(d), 1.4.2(e), 1.4.2(h), the center heading for “1.4.3 Operating Permit” and the entries for 1.4.3(a) through 1.4.3(c).

b. By adding in numerical order:

i. An entry under “CHAPTER 4 (OAC 252:4). RULES OF PRACTICE AND PROCEDURE” for 252:4-7-32;

ii. A center heading for under “CHAPTER 100 (OAC 252:100). AIR POLLUTION CONTROL” titled “Subchapter 5. Registration, Emission Inventory and Annual Operating Fees”, followed by entries for 252:100-5-1;

iii. A center heading under “CHAPTER 100 (OAC 252:100). AIR POLLUTION CONTROL” titled “Subchapter 7. Permits for Minor Facilities” immediately after the entry for Section 252:100-5-3, followed by a center heading titled “Part 1. General Provisions”;

iv. Entries for 252:100-7-1 through 252:100-7-2;

v. A center heading titled “Part 3. Construction Permits”;

vi. An entry for 252:100-7-15;

vii. A center heading titled “Part 4. Operating Permits”;

viii. Entries for 252:100-7-17 through 252:100-7-18

ix. A center heading titled “Part 9. Permits by Rule”;

x. Entries for 252:100-7-60 through 252:100-7-60.2; and

xi. An entry for “252:100, Appendix H” immediately after the entry for “252:100, Appendix G.”

c. By revising the entries for 1.4.1(a), 1.4.1(b), 1.4.1(c), 1.4.2(a), 1.4.2(b), 1.4.2(c), 1.4.2(d), 1.4.2(f), 1.4.2(g), the entries for 252:4-1-1 through 252:4-1-9, 252:4-7-1 through 252:4-7-31, 252:4, Appendix C, under “Appendices for OAC 252: Chapter 4”, and 252:100-5-1 through 252:100-5-3.

The additions and revisions read as follows:

§ 52.1920 Identification of plan

* * * * *

(c) * * *

EPA Approved Oklahoma Regulations
State citation | Title/subject | State effective date | EPA approval date | Explanation
OKLAHOMA AIR POLLUTION CONTROL REGULATIONS
Regulation 1.4. Air Resources Management Permits Required
Regulation 1.4.1 General Permit Requirements
1.4.1(a) | Scope and purpose | ¹ 5/19/1983 | 8/25/1983, 48 FR 38635 | Applicable to minor NSR permitting under OAC 252:100-8 only.
1.4.1(b) | General requirements | 6/4/1990 | 7/23/1991, 56 FR 33715 | Applicable to minor NSR permitting under OAC 252:100-8 only.
1.4.1(c) | Necessity to obtain permit | 6/4/1990 | 7/23/1991, 56 FR 33715 | Applicable to minor NSR permitting under OAC 252:100-8 only.
1.4.2 Construction Permit
1.4.2(a) | Standards required | 6/4/1990 | 7/23/1991, 56 FR 33715 | Applicable to minor NSR permitting under OAC 252:100-8 only.
1.4.2(b) | Stack height limitation | 6/11/1989 | 8/20/1990, 55 FR 33905 | Applicable to minor NSR permitting under OAC 252:100-8 only.
1.4.2(c) | Permit applications | 6/4/1990 | 7/23/1991, 56 FR 33715 | Applicable to minor NSR permitting under OAC 252:100-8 only.
1.4.2(d) | Action on applications | ¹ 5/19/1983 | 8/25/1983, 48 FR 38635 | Applicable to minor NSR permitting under OAC 252:100-8 only.
1.4.2(f) | Construction permit conditions | ¹ 5/19/1983 | 8/25/1983, 48 FR 38635 | Applicable to minor NSR permitting under OAC 252:100-8 only.
1.4.2(g) | Cancellation of authority to construct or modify | ¹ 2/6/1984 | 7/27/1984, 49 FR 30184 | Applicable to minor NSR permitting under OAC 252:100-8 only.
Regulation 3.8. Control of Hazardous Air Contaminants
* * * * * * *
OKLAHOMA ADMINISTRATIVE CODE, TITLE 252. DEPARTMENT OF ENVIRONMENTAL QUALITY
CHAPTER 4 (OAC 252:4). RULES OF PRACTICE AND PROCEDURE
Subchapter 1. General Provisions
252:4-1-1 | Purpose and authority | 6/11/2001 | 5/15/2017, [Insert Federal Register citation] | Applicable to minor NSR permitting under OAC 252:100-7. Approved for major NSR permitting 11/26/2010, 75 FR 72695.
252:4-1-2 | Definitions | 6/11/2001 | 5/15/2017, [Insert Federal Register citation] | Applicable to minor NSR permitting under OAC 252:100-7. Approved for major NSR permitting 11/26/2010, 75 FR 72695.
252:4-1-3 | Organization | 6/11/2001 | 5/15/2017, [Insert Federal Register citation] | Applicable to minor NSR permitting under OAC 252:100-7. Approved for major NSR permitting 11/26/2010, 75 FR 72695.
252:4-1-4 | Office location and hours; communications | 6/11/2001 | 5/15/2017, [Insert Federal Register citation] | Applicable to minor NSR permitting under OAC 252:100-7. Approved for major NSR permitting 11/26/2010, 75 FR 72695.
252:4-1-5 | Availability of a record | 6/11/2001 | 5/15/2017, [Insert Federal Register citation] | Applicable to minor NSR permitting under OAC 252:100-7. Approved for major NSR permitting 11/26/2010, 75 FR 72695. NOT in SIP: Subsection (a), second sentence.
252:4-1-6 | Administrative fees | 6/11/2001 | 5/15/2017, [Insert Federal Register citation] | Applicable to minor NSR permitting under OAC 252:100-7. Approved for major NSR permitting 11/26/2010, 75 FR 72695.
252:4-1-7 | Fee credits for regulatory fees | 6/11/2001 | 5/15/2017, [Insert Federal Register citation] | Applicable to minor NSR permitting under OAC 252:100-7. Approved for major NSR permitting 11/26/2010, 75 FR 72695.
252:4-1-8 | Board and councils | 6/11/2001 | 5/15/2017, [Insert Federal Register citation] | Applicable to minor NSR permitting under OAC 252:100-7. Approved for major NSR permitting 11/26/2010, 75 FR 72695.
252:4-1-9 | Severability | 6/11/2001 | 5/15/2017, [Insert Federal Register citation] | Applicable to minor NSR permitting under OAC 252:100-7. Approved for major NSR permitting 11/26/2010, 75 FR 72695.
* * * * * * *
Subchapter 7. Environmental Permit Process
Part 1. The Process
252:4-7-1 | Authority | 6/11/2001 | 5/15/2017, [Insert Federal Register citation] | Applicable to minor NSR permitting under OAC 252:100-7. Approved for major NSR permitting 11/26/2010, 75 FR 72695.
252:4-7-2 | Preamble | 6/11/2001 | 5/15/2017, [Insert Federal Register citation] | Applicable to minor NSR permitting under OAC 252:100-7. Approved for major NSR permitting 11/26/2010, 75 FR 72695. NOT in SIP: second sentence.
252:4-7-3 | Compliance | 6/11/2001 | 5/15/2017, [Insert Federal Register citation] | Applicable to minor NSR permitting under OAC 252:100-7. Approved for major NSR permitting 11/26/2010, 75 FR 72695.
252:4-7-4 | Filing an application | 6/11/2001 | 5/15/2017, [Insert Federal Register citation] | Applicable to minor NSR permitting under OAC 252:100-7. Approved for major NSR permitting 11/26/2010, 75 FR 72695. NOT in SIP: Subsection (a), first sentence.
252:4-7-5 | Fees | 6/11/2001 | 5/15/2017, [Insert Federal Register citation] | Applicable to minor NSR permitting under OAC 252:100-7. Approved for major NSR permitting 11/26/2010, 75 FR 72695.
252:4-7-6 | Receipt of applications | 6/11/2001 | 5/15/2017, [Insert Federal Register citation] | Applicable to minor NSR permitting under OAC 252:100-7. Approved for major NSR permitting 11/26/2010, 75 FR 72695.
252:4-7-7 | Administrative completeness review | 6/11/2001 | 5/15/2017, [Insert Federal Register citation] | Applicable to minor NSR permitting under OAC 252:100-7. Approved for major NSR permitting 11/26/2010, 75 FR 72695.
252:4-7-8 | Technical review | 6/11/2001 | 5/15/2017, [Insert Federal Register citation] | Applicable to minor NSR permitting under OAC 252:100-7. Approved for major NSR permitting 11/26/2010, 75 FR 72695.
252:4-7-9 | When review times stop | 6/11/2001 | 5/15/2017, [Insert Federal Register citation] | Applicable to minor NSR permitting under OAC 252:100-7. Approved for major NSR permitting 11/26/2010, 75 FR 72695.
252:4-7-10 | Supplemental time | 6/11/2001 | 5/15/2017, [Insert Federal Register citation] | Applicable to minor NSR permitting under OAC 252:100-7. Approved for major NSR permitting 11/26/2010, 75 FR 72695.
252:4-7-11 | Extensions | 6/11/2001 | 5/15/2017, [Insert Federal Register citation] | Applicable to minor NSR permitting under OAC 252:100-7. Approved for major NSR permitting 11/26/2010, 75 FR 72695.
252:4-7-12 | Failure to meet deadline | 6/11/2001 | 5/15/2017, [Insert Federal Register citation] | Applicable to minor NSR permitting under OAC 252:100-7. Approved for major NSR permitting 11/26/2010, 75 FR 72695.
252:4-7-13 | Notices | 6/11/2001 | 5/15/2017, [Insert Federal Register citation] | Applicable to minor NSR permitting under OAC 252:100-7. Approved for major NSR permitting 11/26/2010, 75 FR 72695. NOT in SIP: Subsection (a). NOT in SIP: Subsection (e) and subsection (f) requirements for permits other than Part 70 permits.
252:4-7-14 | Withdrawing applications | 6/11/2001 | 5/15/2017, [Insert Federal Register citation] | Applicable to minor NSR permitting under OAC 252:100-7. Approved for major NSR permitting 11/26/2010, 75 FR 72695.
252:4-7-15 | Permit issuance or denial | 6/11/2001 | 5/15/2017, [Insert Federal Register citation] | Applicable to minor NSR permitting under OAC 252:100-7. Approved for major NSR permitting 11/26/2010, 75 FR 72695.
252:4-7-16 | Tier II and III modifications | 6/11/2001 | 5/15/2017, [Insert Federal Register citation] | Applicable to minor NSR permitting under OAC 252:100-7. Approved for major NSR permitting 11/26/2010, 75 FR 72695.
252:4-7-17 | Permit decision-making authority | 6/11/2001 | 5/15/2017, [Insert Federal Register citation] | Applicable to minor NSR permitting under OAC 252:100-7. Approved for major NSR permitting 11/26/2010, 75 FR 72695.
252:4-7-18 | Pre-issuance permit review and correction | 6/11/2001 | 5/15/2017, [Insert Federal Register citation] | Applicable to minor NSR permitting under OAC 252:100-7. Approved for major NSR permitting 11/26/2010, 75 FR 72695.
252:4-7-19 | Consolidation of permitting process | 6/11/2001 | 5/15/2017, [Insert Federal Register citation] | Applicable to minor NSR permitting under OAC 252:100-7. Approved for major NSR permitting 11/26/2010, 75 FR 72695.
Part 3. Air Quality Division Tiers And Time Lines
252:4-7-31 | Air quality time lines | 6/11/2001 | 5/15/2017, [Insert Federal Register citation] | Applicable to minor NSR permitting under OAC 252:100-7. Approved for major NSR permitting 11/26/2010, 75 FR 72695.
252:4-7-32 | Air quality applications—Tier I | 6/11/2001 | 5/15/2017, [Insert Federal Register citation] | Applicable to minor NSR permitting under OAC 252:100-7. NOT in SIP: Subsections (a), (b), (c)(1), (c)(3) and (c)(5).
* * * * * * *
Appendices for OAC 252: Chapter 4
* * * * * * *
252:4, Appendix C | Permitting process summary | 6/11/2001 | 5/15/2017, [Insert Federal Register citation] | Applicable to minor NSR permitting under OAC 252:100-7. Approved for major NSR permitting 11/26/2010, 75 FR 72695. NOT in SIP: Tier I column.
* * * * * * *
CHAPTER 100 (OAC 252:100). AIR POLLUTION CONTROL
* * * * * * *
Subchapter 5. Registration, Emission Inventory and Annual Operating Fees
252:100-5-1 | Purpose | 6/11/2001 | 5/15/2017, [Insert Federal Register citation] | Applicable to minor NSR permitting under OAC 252:100-7. Approved for major NSR permitting 11/26/2010, 75 FR 72695.
252:100-5-1.1 | Definitions | 6/15/2007 | 5/15/2017, [Insert Federal Register citation] | Applicable to minor NSR permitting under OAC 252:100-7. Approved for major NSR permitting 9/28/2016, 81 FR 66535.
252:100-5-2 | Registration of potential sources of air contaminants | 6/11/2001 | 5/15/2017, [Insert Federal Register citation] | Applicable to minor NSR permitting under OAC 252:100-7. Approved for major NSR permitting 11/26/2010, 75 FR 72695.
252:100-5-2.1 | Emission inventory | 6/15/2007 | 5/15/2017, [Insert Federal Register citation] | Applicable to minor NSR permitting under OAC 252:100-7. Approved for major NSR permitting 9/28/2016, 81 FR 66535.
252:100-5-2.2 | Annual operating fees | 6/11/2001 | 5/15/2017, [Insert Federal Register citation] | Applicable to minor NSR permitting under OAC 252:100-7. Approved for major NSR permitting 11/26/2010, 75 FR 72695.
252:100-5-3 | Confidentiality of proprietary information | 6/11/2001 | 5/15/2017, [Insert Federal Register citation] | Applicable to minor NSR permitting under OAC 252:100-7. Approved for major NSR permitting 11/26/2010, 75 FR 72695.
Subchapter 7. Permits for Minor Facilities
Part 1. General Provisions
252:100-7-1 | Purpose | 6/25/1998 | 5/15/2017, [Insert Federal Register citation]
252:100-7-1.1 | Definitions | 6/11/1999 | 5/15/2017, [Insert Federal Register citation]
252:100-7-2 | Requirement for permits for minor facilities | 6/1/2001 | 5/15/2017, [Insert Federal Register citation] | NOT in SIP: Subsection (a), second sentence.
Part 3. Construction Permits
252:100-7-15 | Construction permit | 6/11/1999 | 5/15/2017, [Insert Federal Register citation]
Part 4. Operating Permits
252:100-7-17 | Relocation permits for portable sources | 6/25/1998 | 5/15/2017, [Insert Federal Register citation]
252:100-7-18 | Operating permit | 6/11/1999 | 5/15/2017, [Insert Federal Register citation]
Part 9. Permits by Rule
252:100-7-60 | Permit by rule | 6/11/1999 | 5/15/2017, [Insert Federal Register citation]
252:100n-7-60.1 | Cotton gins | 6/11/1999 | 5/15/2017, [Insert Federal Register citation]
252:100-7-60.2 | Grain elevators | 6/11/1999 | 5/15/2017, [Insert Federal Register citation]
Subchapter 8. Permits for Part 70 Sources
* * * * * * *
Appendices for OAC 252: Chapter 100
* * * * * * *
252:100, Appendix G | Allowable Particulate Matter Emission Rates for Directly Fired Fuel-Burning Units and Industrial Process | 7/1/2009 | 11/3/2015, 80 FR 67650
252:100, Appendix H | De minimis Facilities | 6/25/1998 | 5/15/2017, [Insert Federal Register citation] | NOT in SIP: “and/or toxic.”
* * * * * * *
¹ Submitted.

[FR Doc. 2017-09470 Filed 5-12-17; 8:45 am]

BILLING CODE 6560-50-P